NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on April 7, 2008.

1. Type of submission, new, revision, or extension: Extension.

2. The title of the information collection: Grant and Cooperative Agreement Provisions.

3. Current OMB approval number: 3150-0107.

4. The form number if applicable: Not applicable.

5. How often the collection is required: Technical performance reports are submitted every six months, other information is submitted on occasion, as needed.

6. Who will be required or asked to report: Grantees and Cooperators.

7. An estimate of the number of annual responses: 458 (318 responses plus 140 recordkeepers).

8. The estimated number of annual respondents: 140.

9. An estimate of the total number of hours needed annually to complete the requirement or request: 3,381 (3,153 reporting hours plus 228 recordkeeping hours).

10. Abstract: The Division of Contracts (DC) is responsible for awarding grants and cooperative agreements for the NRC. The DC collects information from grantees and cooperators in order to administer these programs. The DC uses provisions (required to obtain or retain a benefit in its awards and cooperative agreements) to ensure: adherence to Public Laws, that the Government's rights are protected, that work proceeds on schedule, and that disputes between the Government and the recipient are settled.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by August 11, 2008. Comments received after this date will be considered if it is practical to do so, but assurance of consideration cannot be given to comments received after this date.

Nathan J. Frey, Office of Information and Regulatory Affairs (3150-0107), NEOB-10202, Office of Management and Budget, Washington, DC 20503.

Comments can also be e-mailed to Nathan_J._Frey@omb.eop.gov or submitted by telephone at (202) 395-7345.

The NRC Clearance Officer is Margaret A. Janney, (301) 415-7245.

Dated at Rockville, Maryland, this 2nd day of July, 2008.
For the Nuclear Regulatory Commission.
Gregory Trussell,
Acting NRC Clearance Officer, Office of Information Services.

[FR Doc. E8-15678 Filed 7-9-08; 8:45 am]

BILLING CODE 7590-01-P